DEPARTMENT OF ENERGY

Federal Energy Regulatory Commission

[Project No. 2669-085]

Notice of Application Tendered for Filing With the Commission and Establishing Procedural Schedule for Licensing and Deadline for Submission of Final Amendments; Bear Swamp Power Company, LLC

Take notice that the following hydroelectric application has been filed with the Commission and is available for public inspection.

a. Type of Application: New Major License.

b. Project No.: 2669-085.

c. Date Filed: March 30, 2018.

d. Applicant: Bear Swamp Power Company, LLC (Bear Swamp).

e. Name of Project: Bear Swamp Project.

f. Location: The existing project is located on the Deerfield River in Berkshire and Franklin Counties, Massachusetts. The project does not affect federal lands.

g. Filed Pursuant to: Federal Power Act, 16 U.S.C. 791(a)-825(r).

h. Applicant Contact: Steven P. Murphy, Director of Licensing, Brookfield Renewable Energy Group, 33 West 1st Street South, Fulton, NY 13069; Telephone (315) 593-3118.

i. FERC Contact: John Baummer, (202) 502-6837 or john.baummer@ferc.gov.

j. This application is not ready for environmental analysis at this time.

k. Project Description: The existing Bear Swamp Project consists of a pumped storage development, the Bear Swamp Pumped Storage Development, and a conventional hydropower development, the Fife Brook Development, with a combined authorized capacity of 676 megawatts (MW). The project generates an average of 483,863 megawatt-hours (MWh) annually, and uses an average of 618,293 MWh annually to operate the pumped storage development.

Bear Swamp Pumped Storage Development

The existing Bear Swamp Pumped Storage Development consists of the following existing facilities: (1) A 118-acre upper reservoir with a gross storage capacity of 8,300 acre-feet at the normal full water surface elevation of approximately 1,600 feet National Geodetic Vertical Datum of 1929 (NGVD), which is contained by existing topography and 4 dikes: (a) An approximately 1,300-foot-long, 155-foot-high curved, earth and rock-fill dike (North Dike); (b) an approximately 350-foot-long, 23-foot-high earth and rock-fill dike extending from the eastside of the North Dike (North Dike Extension); (c) an approximately 2,880-foot-long, 140-foot-high earth and rock-fill dike (South Dike); and (d) an approximately 750-foot-long, 50-foot-high earth and rock-fill dike (East Dike); (2) a 420-foot long emergency spillway to the east of the North Dike Extension; (3) an 88-foot-long, 1.5- to 4-foot-wide, 4-foot-high submerged weir with three 5-foot-wide, 3-foot-high concrete stoplog gates; (4) a 40-foot-diameter concrete inlet/outlet structure located at the bottom of the upper reservoir to the west of the North Dike; (5) an approximately 1,430.5-foot-long tunnel system that includes: (a) A 75-foot-long concrete-lined section that tapers from 40 feet to 25 feet in diameter; (b) an approximately 965-foot-long, 25-foot-diameter concrete-lined section; (c) a 15-foot-long concrete-lined section that bifurcates from a single 25-foot-diameter section to two 20-foot-diameter penstock sections; (d) two 25-foot-long concrete-lined penstock sections that taper from 20 feet to 17.5 feet in diameter; (e) two 322-foot-long, 17.5-foot-diameter concrete-lined penstock sections; (f) two 20-foot-long concrete-lined penstock sections that taper from 17.5 feet to 11 feet in diameter; and (g) two 8.5-foot-long, 11-foot-diameter, steel-lined penstock sections; (6) a 227-foot-long, 79-foot-wide, 182-foot-high underground powerhouse containing two reversible Francis pump turbine-generator units with a total authorized capacity of 666 MW; (7) two 504-foot-long, 22-foot-wide, 29.5-foot-high concrete-lined draft tube tunnels; (8) a lower reservoir inlet/outlet structure with four 15-foot-wide, 20-foot-high bays, each equipped with 16-foot-wide, 20.6-foot-high steel slide gates; (9) four 15-foot-wide, 26.7-foot-tall steel trashracks with 6-inch bar spacing; (10) two 13.8-kilovolt (kV) motor-generator lead electrical lines, one approximately 890 feet long (east lead) and one approximately 900 feet long (west lead); (11) a 600-foot-long, 15-foot-wide, 23-foot-high access tunnel for the generator lead lines; (12) two 13.8/230-kV step-up transformers; (13) two 230-kV above-ground transmission lines, one approximately 4,075 feet long (south line) and one approximately 3,960 feet long (north line), which terminate at a non-project switchyard owned by National Grid; (14) a 700-foot-long, 25-foot-wide, 29-foot-high tunnel for the access road; and (15) appurtenant facilities.

Fife Brook Development

The existing Fife Brook Development consists of: (1) An 890-foot-long, 130-foot-high earthen rock-fill dam; (2) a 152-acre impoundment with a gross storage capacity of 6,900 acre-feet at a normal maximum water surface elevation of 870 feet NGVD, which also serves as the lower reservoir for the Bear Swamp Pumped Storage Development; (3) two 36-foot-wide, 40-foot-high steel Tainter spillway gates that are integral with the dam; (4) a concrete intake structure that is integral with the dam and includes an 11.2-foot-wide, 24-foot-tall trashrack with 3-inch bar spacing and a 15-foot-wide, 18-foot-high headgate; (5) a 10-foot-diameter, 200-foot-long steel penstock; (6) an approximately 79.25-foot-long, 44-foot-wide, 94-foot-tall concrete powerhouse containing a 10-MW Francis turbine-generator unit; (7) a 21-foot-long steel-lined draft tube; (8) an approximately 325-foot-long, 30-inch-diameter minimum flow release pipe that is gated at its intake and bifurcates into an approximately 55-foot-long, 20-inch-diameter pipe and an approximately 55-foot-long, 24-inch-diameter pipe; (9) a partially buried (860-foot-long section) and partially above-ground (7,060-foot-long section) 13.8-kV transmission line that connects the turbine-generator unit to the regional grid at a non-project substation owned by Great River Hydro, LLC; and (10) appurtenant facilities.

The Bear Swamp Pumped Storage Development uses a storage capacity of 4,600 acre-feet to generate approximately 3,028 MWh of energy over a generation run time of approximately 5.3 hours. The Bear Swamp Pumped Storage Development normally generates and pumps back some or all of its useable storage capacity over a 24-hour period.

The impoundment for the Fife Brook Development is the lower reservoir of the Bear Swamp Pumped Storage Development. The Fife Brook impoundment has an allowable drawdown of 40 feet to provide a useable storage capacity of 4,600 acre-feet to the upper reservoir of the Bear Swamp Pumped Storage Development for daily peaking operations. Releases from Fife Brook dam generally match the inflow from the Station No. 5 Development of Great River Hydro, LLC's Deerfield River Project (FERC No. 2323), which discharges directly into the Fife Brook impoundment.

The project's current license requires Bear Swamp to release a continuous minimum flow of 125 cubic feet per second (cfs) from Fife Brook dam, and to use water from the Bear Swamp Pumped Storage Development to meet the required 125 cfs minimum flow as necessary. The existing license also requires Bear Swamp to provide 106 scheduled annual releases of 700 cfs for whitewater recreation downstream of the Fife Brook dam from April 1 through October 31.

l. Locations of the Application: A copy of the application is available for review at the Commission in the Public Reference Room or may be viewed on the Commission's website at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the Rowe Town Library, located at 318 Zoar Road, Rowe, MA 01367; or the North Adams Public Library, located at 74 Church Street, North Adams, MA 01247.

m. You may also register online at http://www.ferc.gov/docs-filing/esubscription.asp to be notified via email of new filings and issuances related to this or other pending projects. For assistance, contact FERC Online Support.

n. Procedural Schedule: Pursuant to section 5.19(d) of the Commission's regulations, the Director, Office of Energy Projects will issue an order within 30 days of the filing date of the final license application to resolve study requests that were filed in comments on the draft license application. At this time, the application is expected to be processed according to the following preliminary Hydro Licensing Schedule. Revisions to the schedule may be made following the Director's determination on the study requests, or as otherwise appropriate.

Milestone | Target date
Notice of Acceptance/Notice of Ready for Environmental Analysis | October 2018.
Filing of recommendations, preliminary terms and conditions, and fishway prescriptions | December 2018.
Commission issues Draft Environmental Assessment (EA) | June 2019.
Comments on Draft EA | August 2019.
Modified terms and conditions | October 2019.
Commission issues Final EA | January 2020.

o. Final amendments to the application must be filed with the Commission no later than 30 days from the issuance date of the notice of ready for environmental analysis.

Dated: April 12, 2018.
Nathaniel J. Davis, Sr.,
Deputy Secretary.

[FR Doc. 2018-08073 Filed 4-17-18; 8:45 am]

BILLING CODE 6717-01-P